DEPARTMENT OF TRANSPORTATION

Federal Aviation Administration

14 CFR Part 39

[Docket No. FAA-2008-0908; Directorate Identifier 2007-NM-190-AD; Amendment 39-15788; AD 2009-01-09]

RIN 2120-AA64

Airworthiness Directives; Airbus Model A310 Series Airplanes

AGENCY: Federal Aviation Administration (FAA), DOT.

ACTION: Final rule.

SUMMARY: The FAA is superseding an existing airworthiness directive (AD) that applies to all Airbus Model A310 series airplanes. That AD currently requires repetitive detailed inspections to detect cracks propagating from the fastener holes that attach the left- and right-hand pick-up angles at frame 40 to the wing lower skin and fuselage panel, and corrective actions if necessary. This new AD revises the intervals for accomplishing the repetitive detailed inspections and provides for an optional terminating modification for the repetitive inspections. This new AD also revises the applicability of the AD to remove certain airplanes. This AD results from mandatory continuing airworthiness information originated by an aviation authority of another country to identify and correct an unsafe condition on an aviation product. We are issuing this AD to prevent reduced structural integrity of the airplane due to fatigue damage, and consequent cracking of the pick-up angles at frame 40.

DATES: This AD is effective April 2, 2009.

The Director of the Federal Register approved the incorporation by reference of a certain publication listed in this AD as of April 2, 2009.

The Director of the Federal Register approved the incorporation by reference of a certain other publication listed in this AD as of February 9, 2001 (66 FR 1031, January 5, 2001).

ADDRESSES: For service information identified in this AD, contact Airbus SAS-EAW (Airworthiness Office), 1 Rond Point Maurice Bellonte, 31707 Blagnac Cedex, France; telephone +33 5 61 93 36 96; fax +33 5 61 93 44 51; e-mail account.airworth-eas@airbus.com; Internet http://www.airbus.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an airworthiness directive (AD) that supersedes AD 2000-26-14, amendment 39-12064 (66 FR 1031, January 5, 2001). The existing AD applies to all Airbus Model A310 series airplanes. That NPRM was published in the Federal Register on August 26, 2008 (73 FR 50250). A correction to that NPRM was published in the Federal Register on September 8, 2008 (73 FR 51961). That NPRM proposed to continue to require repetitive detailed inspections to detect cracks propagating from the fastener holes that attach the left- and right-hand pick-up angles at frame 40 to the wing lower skin and fuselage panel, and corrective actions if necessary. That NPRM also proposed to revise the intervals for accomplishing the repetitive detailed inspections and provided for an optional terminating modification for the repetitive inspections. That NPRM also proposed to revise the applicability of the AD to remove certain airplanes.

Comments

We gave the public the opportunity to participate in developing this AD. We received no comments on the NPRM or on the determination of the cost to the public.

Conclusion

We reviewed the relevant data and determined that air safety and the public interest require adopting the AD as proposed.

Costs of Compliance

This AD affects about 68 Model A310 series airplanes of U.S. registry.

The inspections that are required by AD 2000-26-14 and retained in this AD take about 2 work hours per airplane, at an average labor rate of $80 per work hour. Based on these figures, the estimated cost of the currently required actions is $10,880, or $160 per airplane, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12064 (66 FR 1031, January 5, 2001) and by adding the following new AD:

2009-01-09 Airbus: Amendment 39-15788. Docket No. FAA-2008-0908; Directorate Identifier 2007-NM-190-AD.

Effective Date

(a) This airworthiness directive (AD) is effective April 2, 2009.

Affected ADs

(b) This AD supersedes AD 2000-26-14.

Applicability

(c) This AD applies to Airbus Model A310 series airplanes, certificated in any category, except those airplanes modified in-service in accordance with Airbus Service Bulletin A310-53-2119, dated October 25, 2005; or Revision 01, dated February 27, 2007.

Unsafe Condition

(d) This AD results from mandatory continuing airworthiness information originated by an aviation authority of another country to identify and correct an unsafe condition on an aviation product. We are issuing this AD to prevent reduced structural integrity of the airplane due to fatigue damage and consequent cracking of the pick-up angles at frame 40.

Compliance

(e) You are responsible for having the actions required by this AD performed within the compliance times specified, unless the actions have already been done.

Requirements of AD 2000-26-14

Inspections and Corrective Actions

(f) Perform a detailed inspection to detect cracks propagating from the fastener holes that attach the left- and right-hand pick-up angles at frame 40 to the wing lower skin and fuselage panel, at the time specified in paragraph (g), (h), (i), (j), or (k) of this AD, as applicable. Perform the actions in accordance with Figure 2, Sheet 1, “Synoptic Chart,” of Airbus Service Bulletin A310-53A2111, Revision 01, dated June 21, 2000, except as provided by paragraph (l) of this AD.

(1) If no cracking is found during the inspection required by paragraph (f) of this AD, repeat the detailed inspection thereafter at the interval specified in paragraph (f)(1)(i) or (f)(1)(ii) of this AD, as applicable, except as provided by paragraph (n) of this AD.

(i) For Model A310-200 series airplanes: Except as provided by paragraph (i) of this AD, repeat the inspection thereafter at intervals not to exceed 1,000 flight cycles or 2,600 flight hours, whichever occurs first.

(ii) For Model A310-300 series airplanes: Except as provided by paragraphs (i) of this AD, repeat the inspection thereafter at intervals not to exceed 850 flight cycles or 2,800 flight hours, whichever occurs first.

(2) If any cracking is found during the inspection required by paragraph (f) of this AD, prior to further flight, perform applicable corrective actions (including repair (drilling and reaming a crack stop hole in the pick-up angle, performing a Rototest inspection and repetitive detailed inspections at the time specified in the service bulletin, and replacing the pick-up angle with a new angle at the time specified in the service bulletin, except as provided by paragraph (o) of this AD); or immediate replacement of any cracked angle with a new angle). Perform the actions and repetitive inspections in accordance with Figure 2, Sheet 1, “Synoptic Chart,” of Airbus Service Bulletin A310-53A2111, Revision 01, dated June 21, 2000, except as provided by paragraph (l) of this AD.

Note 1: Accomplishment of the actions required by paragraph (f) of this AD in accordance with Airbus Service Bulletin A310-53A2111, dated April 21, 2000, is considered to be acceptable for compliance with the requirements of that paragraph.

Compliance Times

(g) For Model A310-200 series airplanes: Except as provided by paragraphs (i), (j), and (k) of this AD, perform the initial inspection at the later of the times specified in paragraphs (g)(1) and (g)(2) of this AD.

(1) Prior to the accumulation of 7,900 total flight cycles or 23,600 total flight hours, whichever occurs first.

(2) Within 700 flight cycles or 1,200 flight hours after February 9, 2001 (the effective date of AD 2000-26-14), whichever occurs first.

(h) For Model A310-300 series airplanes: Except as provided by paragraphs (i), (j), and (k) of this AD, perform the initial inspection required by paragraph (f) of this AD at the later of the times specified in paragraphs (h)(1) and (h)(2) of this AD.

(1) Prior to the accumulation of 6,700 total flight cycles or 24,700 total flight hours, whichever occurs first.

(2) Within 700 flight cycles or 1,200 flight hours after February 9, 2001, whichever occurs first.

(i) For airplanes that have accumulated more than 18,000 total flight cycles or 53,000 total flight hours as of February 9, 2001: Perform the initial inspection required by paragraph (f) of this AD within 350 flight cycles or 600 flight hours after February 9, 2001, whichever occurs first. Repeat the inspection thereafter at intervals not to exceed 350 flight cycles or 600 flight hours, whichever occurs first.

(j) For airplanes having manufacturer's serial number 0162 through 0326 inclusive, on which Airbus Service Bulletin A310-53-2014 has been accomplished prior to February 9, 2001: The initial inspection threshold may be counted from the date of accomplishment of Airbus Service Bulletin A310-53-2014.

(k) For airplanes on which a pick-up angle has been replaced: For that pick-up angle only, the initial inspection threshold may be counted from the date of installation of the new pick-up angle.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Requirements of This AD

New Revisions of Service Bulletin

(l) As of the effective date of this AD, use only the Accomplishment Instructions of Airbus Mandatory Service Bulletin A310-53-2111, Revision 03, dated May 21, 2007, to do the inspections and corrective actions required by paragraph (f) of this AD; except where Figure 2 Sheet 2 of Airbus Mandatory Service Bulletin A310-53-2111, Revision 03, dated May 21, 2007, specifies actions for crack length of “<54 mm (2.126 in.)” and “<69 mm (2.716 in.),” this AD requires the corresponding actions for crack lengths less than or equal to those measurements.

(m) Inspections and applicable corrective actions done before the effective date of this AD in accordance with Airbus Mandatory Service Bulletin A310-53-2111, Revision 02, dated October 25, 2005, are acceptable for compliance with the requirements of paragraph (f) of this AD.

Revised Repetitive Intervals for Detailed Inspections

(n) As of the effective date of this AD, repeat the detailed inspections for no crack findings required by paragraph (f)(1)(i), (f)(1)(ii), or (i) of this AD, as applicable, at the applicable times specified in Table 1 of this AD, until the modification specified in paragraph (p) of this AD is done.

Table 1—Revised Repetitive Intervals for Certain Detailed Inspections
For model— | Repeat the inspection at the later of the following times— |  | And thereafter at intervals not to exceed—
(1) A310-200 series airplanes | Within 950 flight cycles or 1,900 flight hours since the last inspection required by paragraph (f)(1)(i) or (i) of this AD, whichever occurs first | Within 50 flight cycles or 250 flight hours after the effective date of this AD, whichever occurs first | 950 flight cycles or 1,900 flight hours, whichever occurs first.
(2) A310-300 series airplanes (short range) | Within 900 flight cycles or 2,550 flight hours since the last inspection required by paragraph (f)(1)(ii) or (i) of this AD, whichever occurs first | Within 50 flight cycles or 250 flight hours after the effective date of this AD, whichever occurs first | 900 flight cycles or 2,550 flight hours, whichever occurs first.
(3) A310-300 series airplanes (long range) | Within 800 flight cycles or 4,000 flight hours since the last inspection required by paragraph (f)(1)(ii) or (i) of this AD, whichever occurs first | Within 50 flight cycles or 250 flight hours after the effective date of this AD, whichever occurs first | 800 flight cycles or 4,000 flight hours, whichever occurs first.

Revised Threshold for Replacing the Pick-Up Angles

(o) As of the effective date of this AD, do the replacement of the pick-up angle required by paragraph (f)(2) of this AD, at the applicable time specified in Table 2 of this AD.

Table 2—Revised Thresholds for Replacing Pick-Up Angles
For model— | Replace at the earlier of the following times—
(1) A310-200 series airplanes | At the time specified in paragraph (f)(2) of this AD for replacing the pick-up angle | Within 1,500 flight cycles or 3,000 flight hours since the last detailed inspection, or within 30 days after the effective date of this AD, whichever occurs later.
(2) A310-300 series airplanes (short range) | At the time specified in paragraph (f)(2) of this AD for replacing the pick-up angle | Within 1,600 flight cycles or 4,600 flight hours since the last detailed inspection, or within 30 days after the effective date of this AD, whichever occurs later.
(3) A310-300 series airplanes (long range) | At the time specified in paragraph (f)(2) of this AD for replacing the pick-up angle | Within 1,400 flight cycles or 7,200 flight hours since the last detailed inspection, or within 30 days after the effective date of this AD, whichever occurs later.

Optional Terminating Modification

(p) Remove the existing pick-up angles and install a reinforced doubler between frames (FR) FR40 and FR41, and perform applicable related investigative and corrective actions by accomplishing all the applicable actions specified in the Accomplishment Instructions of Airbus Service Bulletin A310-53-2119, Revision 01, dated February 27, 2007; except as provided by paragraph (q) of this AD. Accomplishing these actions ends the repetitive inspections required by this AD.

(q) If any crack is detected and Airbus Service Bulletin A310-53-2119, Revision 01, dated February 27, 2007, specifies to contact Airbus: Before further flight, repair the crack using a method approved by either the Manager, International Branch, ANM-116, Transport Airplane Directorate, FAA; or the European Aviation Safety Agency (EASA) (or its delegated agent).

(r) Actions done before the effective date of this AD in accordance with the Accomplishment Instructions of Airbus Service Bulletin A310-53-2119, dated October 25, 2005, are acceptable for compliance with the corresponding requirements of paragraph (p) of this AD.

Alternative Methods of Compliance (AMOCs)

(s) The Manager, International Branch, ANM-116, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your appropriate principal inspector (PI) in the FAA Flight Standards District Office (FSDO), or lacking a PI, your local FSDO.

Related Information

(t) EASA airworthiness directive 2007-0184, dated July 3, 2007, also addresses the subject of this AD.

Material Incorporated by Reference

(u) You must use the service information identified in Table 3 of this AD to do the actions required by this AD, unless the AD specifies otherwise. If you do the optional terminating modification provided in this AD, you must use Airbus Service Bulletin A310-53-2119, Revision 01, including Appendix 01, dated February 27, 2007, to do the optional terminating modification.

Table 3—Material Incorporated by Reference for Actions required by This AD
Service bulletin | Revision level | Date
Airbus Service Bulletin A310-53A2111, including Appendix 01 | 01 | June 21, 2000.
Airbus Mandatory Service Bulletin A310-53-2111, including Appendix 01 | 03 | May 21, 2007.

(1) The Director of the Federal Register approved the incorporation by reference of the service information identified in Table 4 of this AD under 5 U.S.C. 552(a) and 1 CFR part 51.

Table 4—New Material Incorporated by Reference
Service bulletin | Revision level | Date
Airbus Mandatory Service Bulletin A310-53-2111, including Appendix 01 | 03 | May 21, 2007.
A310-53-2119, including Appendix 01 | 01 | February 27, 2007.

(2) The Director of the Federal Register previously approved the incorporation by reference of Airbus Service Bulletin A310-53A2111, Revision 01, including Appendix 1, dated June 21, 2000, on February 9, 2001 (66 FR 1031, January 5, 2001).

(3) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(4) You may review copies of the service information that is incorporated by reference at the FAA, Transport Airplane Directorate, 1601 Lind Avenue, SW., Renton, Washington. For information on the availability of this material at the FAA, call 425-227-1221 or 425-227-1152.

(5) You may also review copies of the service information at the National Archives and Records Administration (NARA). For information on the availability of this material at NARA, call 202-741-6030, or go to: http://www.archives.gov/federal_register/code_of_federal_regulations/ibr_locations.html.

Issued in Renton, Washington, on December 18, 2008.
Stephen P. Boyd,
Assistant Manager, Transport Airplane Directorate, Aircraft Certification Service.

[FR Doc. E9-3765 Filed 2-25-09; 8:45 am]

BILLING CODE 4910-13-P